DEPARTMENT OF TRANSPORTATION

Federal Aviation Administration

Notice of Intent To Rule on Request to Release Airport Property at Newport Municipal Airport, Newport, AR

AGENCY: Federal Aviation Administration (FAA), DOT.

ACTION: Notice of request to release airport property.

SUMMARY: The FAA proposes to rule and invites public comment on the release of land at Newport Municipal Airport under the provisions of Section 125 of the Wendell H. Ford Aviation Investment Reform Act for the 21st Century (AIR 21).

DATES: Comments must be received on or before June 2, 2004.

ADDRESSES: Comments on this application may be mailed or delivered to the FAA at the following address: Mr. Edward Agnew, Manager, Federal Aviation Administration, Southwest Region, Airports Division, Arkansas/Oklahoma Airports Development Office, ASW-630, Fort Worth, Texas 76193-0630.

In addition, one copy of any comments submitted to the FAA must be mailed or delivered to Mayor David Stewart, City of Newport, at the following address: City of Newport, 615 Third Street, Newport, AR 72112.

FOR FURTHER INFORMATION CONTACT: Mr. Paul Burns, Program Manager, Federal Aviation Administration, Southwest Region, Airports Division, Arkansas/Oklahoma Airports Development Office, ASW-630, Fort Worth, Texas 76193-0630.

The request to release property may be reviewed in person at this same location.

SUPPLEMENTARY INFORMATION: The FAA invites public comment on the request to release property at Newport Municipal Airport under the provisions of the AIR 21.

On April 13, 2004, the FAA determined that the request to release property at Newport Municipal Airport submitted by the City of Newport met the procedural requirements of the Federal Aviation Regulations, Part 155. The FAA may approve the request, in whole or in part, no later than May 13, 2004.

The following is a brief overview of the request:

The City of Newport requests the release of 31.42 acres of non-aeronautical airport property. The land is part of a War Assets Administration Quitclaim Deed dated December 17, 1947 conveying certain lands comprising the Newport Municipal Airport to the City of Newport. The release of property will allow funding for maintenance, operation, and development of the airport.

The sale is estimated to provide $50,700 to be deposited in an interest-bearing account and will be expended on airport maintenance, operation, and development.

Any person may inspect the request in person at the FAA office listed above under FOR FURTHER INFORMATION CONTACT.

In addition, any person may, upon request, inspect the application, notice and other documents germane to the application in person at Newport Municipal Airport.

Issued in Fort Worth, Texas, on April 13, 2003.
Naomi L. Saunders,
Manager, Airports Division.

[FR Doc. 04-9927 Filed 4-30-04; 8:45 am]

BILLING CODE 4910-13-M